DEPARTMENT OF ENERGY

Federal Energy Regulatory Commission

[Project No. 2601-007]

Duke Power Company LLC; Notice of Meeting To Discuss the Effects of the Continued Operation of the Bryson Project on Tribal Resources of the Eastern Band of the Cherokee Indians

February 9, 2007.

a. Date and Time of Meeting: March 7, 2007, from 1 to 4 p.m. (EST).

b. Place: District Courtroom, Swain County Administration Building, 101 Mitchell Street, Bryson City, North Carolina 28713-2321.

c. FERC Contact: Lee Emery at (202) 502-8379 or lee.emery@ferc.gov.

d. Purpose of Meeting: Discuss the effects of continued operation of the Bryson Project on Tribal fishing and boating rights on the Bryson reservoir (Ela reservoir).

Magalie R. Salas,
Secretary.

[FR Doc. E7-2701 Filed 2-15-07; 8:45 am]

BILLING CODE 6717-01-P